DEPARTMENT OF TRANSPORTATION

Pipeline and Hazardous Materials Safety Administration

49 CFR Parts 191 and 192

[Docket No. PHMSA-2011-0023]

RIN 2137-AE72

Pipeline Safety: Safety of Gas Transmission and Gathering Pipelines

AGENCY: Pipeline and Hazardous Materials Safety Administration (PHMSA), DOT.

ACTION: Proposed rule; extension of comment period.

SUMMARY: On April 8, 2016, (81 FR 20722) PHMSA published in the Federal Register a Notice of Proposed Rulemaking (NPRM) titled: “Pipeline Safety: Safety of Gas Transmission and Gathering Pipelines” seeking comments on changes to the pipeline safety regulations for gas transmission and gathering pipelines. PHMSA has received several requests to extend the comment period. PHMSA is granting these requests and extending the comment period from June 7, 2016, to July 7, 2016.

DATES: The closing date for filing comments is extended from June 7, 2016, to July 7, 2016.

ADDRESSES: Comments should reference Docket No. PHMSA-2011-0023 and may be submitted in the following ways:

• E-Gov Web site: http://www.Regulations.gov. This site allows the public to enter comments on any Federal Register notice issued by any agency.

• Fax: 1-202-493-2251.

• Mail: DOT Docket Management System: U.S. DOT, Docket Operations, M-30, West Building Ground Floor, Room W12-140, 1200 New Jersey Avenue SE., Washington, DC 20590-0001.

• Hand Delivery: U.S. DOT Docket Management System; West Building Ground Floor, Room W12-140, 1200 New Jersey Avenue SE., Washington, DC 20590-0001, between 9:00 a.m. and 5:00 p.m., Monday through Friday, except Federal holidays.

Instructions: You should identify the Docket No. PHMSA-2011-0023 at the beginning of your comments. If you submit your comments by mail, please submit two copies. To receive confirmation that PHMSA received your comments, include a self-addressed stamped postcard. Internet users may submit comments to the Docket at http://www.regulations.gov.

Note: Comments are posted without changes or edits to http://www.regulations.gov, including any personal information provided. There is a privacy statement published on http://www.regulations.gov.

FOR FURTHER INFORMATION CONTACT: For further information contact Mike Israni at 202-366-4571 or by email at mike.israni@dot.gov.

SUPPLEMENTARY INFORMATION:

Background

On April 8, 2016, PHMSA issued a NPRM that would make amendments to the pipeline safety regulations for gas transmission and gathering pipelines. Since the issuance of the NPRM, PHMSA has received comment extension requests from the following entities:

• American Gas Association

• American Petroleum Institute

• American Public Gas Association

• California Public Utilities Commission

• Consol Energy Inc.

• Gas Processors Association

• Independent Petroleum Association of American

• Interstate Natural Gas Association of America

• Marcellus Shale Coalition

• National Association of Pipeline Safety Representatives

• National Association of Regulatory Utility Commissioners

• New York State Public Service Commission

• Texas Pipeline Association

PHMSA believes that extension of the comment period is warranted based on the information provided in these requests. Therefore, PHMSA has extended the comment period from June 7, 2016, to July 7, 2016.

Issued in Washington, DC, on May 9, 2016, under authority delegated in 49 CFR 1.97.
Alan K. Mayberry,
Acting Associate Administrator for Pipeline Safety.

[FR Doc. 2016-11240 Filed 5-12-16; 8:45 am]

BILLING CODE 4910-60-P